NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 26, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-01-14, 2 items, 2 temporary items). Records relating to equal employment opportunity surveys of Army military personnel. Included are reviews, final survey reports, recommendations, and electronic copies of documents created using electronic mail and word processing.

2. Department of Commerce, U.S. Patent and Trademark Office (N1-241-01-1, 33 items, 33 temporary items). Paper and electronic records associated with electronic systems, including source records, reports, electronic data and scanned images, system backup files, and electronic copies of documents created using electronic mail and word processing. Systems pertain to such matters as tracking customer orders for patent information, agency equal employment opportunity cases, and the submission and processing of trademark applications.

3. Department of Commerce, U.S. Patent and Trademark Office (N1-241-01-2, 34 items, 34 temporary items). Paper and electronic records associated with trademark electronic systems, including source records, reports, electronic data and scanned images, system backup files, and electronic copies of documents created using electronic mail and word processing. Systems pertain to such matters as the activities and actions of the Trademark Trial and Appeal Board, the capture and maintenance of character based trademark data elements, and the publication of the agency's Official Gazette, a weekly issuance that notifies the public of activity in the trademark registry.

4. Department of Defense, Office of the Inspector General (N1-509-99-1, 8 items, 2 temporary items). Records of the Guatemala Review Panel. Included are administrative disks and diskettes, along with the scanned version of a small portion of the Panel's documents. Proposed for permanent retention are recordkeeping copies of documents accumulated during the review, along with related working papers, reports, and electronic and paper indexes.

5. Department of Defense, National Imagery and Mapping Agency (N1-537-00-4, 32 items, 27 temporary items). Paper, electronic, and audiovisual records relating to communications, including electronic copies of documents created using electronic mail and word processing. Records relate to general administration of communications, postal and mail services, and audiovisual activities. Still pictures, videos and motion pictures, audio recordings, and posters that document the agency mission are proposed for permanent retention.

6. Department of Health and Human Services, Administration for Children and Families (N1-292-01-1, 4 items, 4 temporary items). Records relating to the assessment of Year 2000 conversion issues, including assessment reports, correspondence, training materials, and electronic copies of documents created using electronic mail and word processing.

7. Department of Justice, Office of Alien Property (N1-131-00-1, 24 items, 18 temporary items). Business records seized by the Alien Property Custodian, financial records relating to domestic corporations, audit reports, patent administration records, copyright inquiry and license case files, enclosures to estate case files, vested property case files and general subdivision correspondence files, records of the Philippine Alien Property Administration relating to claims and vested property, and records and reference material maintained by the Comptroller Division. Records were accumulated ca. 1937-1964. Proposed for permanent retention are such records as reports of property owned by Germans in countries other than Germany and the United States, records relating to the Axis Replacement Program in Latin America, litigation records, and general correspondence relating to Jewish Restitution Successor Organization claims.

8. Department of Justice, Office of Alien Property (N1-131-00-2, 14 items, 6 temporary items). General inquiries and case files relating to patent and trademark matters, files relating to administrative matters, and case files handled by the Estates and Trusts Branch, with related enclosures. Records were accumulated ca. 1940-1972. Proposed for permanent retention are general subject files relating to patent, copyright, trademark, and other matters handled by the Alien Property custodian, general correspondence subject files relating to Alien Property Custodian program operations, general correspondence files relating to property matters, and files relating to legislation, executive Orders, policy and procedures, and instructions.

9. Department of Justice, Federal Bureau of Investigation (N1-65-00-5, 1 item, 1 temporary item). Hardcopy teletypes from other government agencies sent to the FBI from 1998 through February of 2000 that are maintained in a control file in Classification 62, Miscellaneous Matters. Hard copies are also filed in the relevant case files, which will be retained or destroyed in accordance with previously approved disposition instructions. An electronic version is maintained in the FBI's Automated Case Support system, which will be scheduled at a later date.

10. Department of Justice, Bureau of Prisons (N1-129-01-2, 11 items, 11 temporary items). Records of the Office of Internal Affairs, including such files as complaints that do not result in the initiation of an investigation, investigative cases, and databases used to locate files, track the progress of cases, and generate reports and statistics on workload. Also included are electronic copies of documents created using electronic mail and word processing.

11. Department of State, Bureau of Human Resources (N1-59-00-7, 44 items, 37 temporary items). Records of the Office of Recruitment, Examination, and Employment, including records related to the recruitment of student interns and foreign service officers, the examination of foreign service candidates, the administration of the foreign service placement examination, and the placement of diplomats in residence. Also included are electronic copies of documents created using electronic mail and word processing. Proposed for permanent retention are recordkeeping copies of such files as policy and procedure documents, agendas, minutes, and annual reports of the Board of Examiners for the Foreign Service, and general subject files pertaining to examinations.

12. Department of State, Bureau of Human Resources (N1-59-00-14, 16 items, 16 temporary items). Records of the Office of Overseas Employment, including subject and country files, job classification surveys, wage surveys, and claims files. Also included are electronic copies of documents created using electronic mail and word processing.

13. Department of the Treasury, Bureau of the Public Debt (N1-53-00-7, 21 items, 19 temporary items). Operational records including budget preparation documents, personnel listings, telephone logs, copies of internal regulations, project files, and Assistant Commissioner chronological files. Also included are electronic copies of documents created using word processing and electronic mail. Recordkeeping copies of regulations, procedures, and project files covering significant studies are proposed for permanent retention.

14. Department of Veterans Affairs, Veterans Health Administration (N1-15-00-2, 17 items, 13 temporary items). Input documents, optical disks, reports, and backup files relating to two registries. One pertains to veterans who may have been exposed to ionizing radiation; the other includes data on personnel who served in the Gulf War. Master data files and the related documentation associated with both registries are proposed for permanent retention.

15. Federal Communications Commission, Office of the Managing Director (N1-173-00-1, 5 items, 3 temporary items). Input/source records in both electronic and textual formats and output reports associated with the Commission Registration System. This system contains basic information on entities doing business with the Commission, such as entity name, address, official contact telephone number, tax identification number, and agency-assigned registration number. The master data file and system documentation are proposed for permanent retention.

Dated: February 1, 2001.
Michael J. Kurtz,
Assistant Archivist for Record Services—Washington, DC.

[FR Doc. 01-3326 Filed 2-8-01; 8:45 am]

BILLING CODE 7515-01-U